DEPARTMENT OF TRANSPORTATION

Coast Guard

33 CFR Part 165

[CGD01-02-093]

RIN 2115-AA97

Safety Zones; Coast Guard Activities New York

AGENCY: Coast Guard, DOT.

ACTION: Temporary final rule.

SUMMARY: The Coast Guard is establishing two temporary safety zones for the Hudson Riverway Grand Opening located on the Hudson River and Midland Beach Fireworks located on Lower New York Bay. This action is necessary to provide for the safety of life on navigable waters during the event. This action is intended to restrict vessel traffic in the affected waterways.

DATES: This rule is effective from 4 p.m. on August 10, 2002, to 10 p.m. on August 18, 2002.

ADDRESSES: The Waterways Oversight Branch of Coast Guard Activities New York maintains the public docket for this rulemaking. Comments and material received from the public, as well as documents indicated in this preamble as being available in the docket, are part of docket CGD01-02-093 and are available for inspection or copying at Waterways Oversight Branch, Coast Guard Activities New York, 212 Coast Guard Drive, room 204, Staten Island, New York 10305, between 8 a.m. and 3 p.m., Monday through Friday, except Federal holidays.

FOR FURTHER INFORMATION CONTACT: Lieutenant Commander E. Morton, Waterways Oversight Branch, Coast Guard Activities New York at (718) 354-4012.

SUPPLEMENTARY INFORMATION:

Regulatory Information

We did not publish a notice of proposed rulemaking (NPRM) for this regulation. Under 5 U.S.C. 553(b)(3), the Coast Guard finds that good cause exists for not publishing an NPRM. Due to the date the Application for Approval of Marine Event was received, there was insufficient time to draft and publish an NPRM. A permanent safety zone has been published at 33 CFR 100.122 for the Hudson Riverway Waterski show on the Hudson River effective on the first Sunday after July 4th. The date for this year's event has been moved to August 10, 2002. The zone will only be enforced for one hour and 45 minutes, which is a much shorter period than in previous years. Further, it is an annual, local event. The City of Albany is closing the public boat launch located within the safety zone during this event.

The Midland Beach safety zone will have minimal impact on Lower New York Bay. Vessels may still transit around the zone during the event. The zone will only be enforced for one and one half hours; vessels can be given permission to transit the zone for all but about 20 minutes during this time. Additionally, vessels would not be precluded from mooring at or getting underway from commercial or recreational piers in the vicinity of the zone.

Under 5 U.S.C. 553(d)(3), the Coast Guard further finds that good cause exists for making this rule effective less than 30 days after publication in the Federal Register. Any delay encountered in this rule's effective date would be unnecessary and contrary to public interest since immediate action is needed to close the waterways and protect the maritime public from the hazards associated with a water ski show in confined waters and fireworks launched from a barge in the area.

Background and Purpose

The Coast Guard received an application to hold a water ski show on the waters of the Hudson River. This rule would establish a safety zone in all waters of the Hudson River from the Dunn Memorial Bridge (river mile 145.4) to the Albany Rensselaer Swing Bridge (river mile 146.2). The safety zone would be enforced from 4 p.m. until 5:45 p.m. on Saturday, August 10, 2002. The safety zone would prevent vessels from transiting a portion of the Hudson River and is needed to protect boaters from the hazards associated with a water ski show held in the area. There are no commercial or recreational piers within the zone. The City of Albany is closing the public boat launch located within the safety zone during this event. Public notifications will be made prior to the event via the Local Notice to Mariners and Marine Information Broadcasts.

This safety zone covers the minimum area needed and imposes the minimum restrictions necessary to ensure the protection of all vessels and water ski show participants.

The Coast Guard received an application to hold a fireworks program on the waters of Lower New York Bay. This rule would establish a safety zone in all waters of Lower New York Bay within a 300-yard radius of the fireworks barge in approximate position 40°34′12.0″ N 074°04′29.6″ W (NAD 1983), about 800 yards southeast of Midland Beach. The safety zone would be enforced from 8:30 p.m. until 10 p.m. on Saturday, August 17, 2002. If the event is cancelled due to inclement weather, then this safety zone would be enforced from 8:30 p.m. until 10 p.m. on Sunday, August 18, 2002. The safety zone would prevent vessels from transiting a portion of Lower New York Bay and is needed to protect boaters from the hazards associated with fireworks launched from a barge in the area. Marine traffic would still be able to transit around the zone during this event. Additionally, recreational vessels would not be precluded from mooring at or getting underway from piers in the vicinity of the zone. Public notifications will be made prior to the event via the Local Notice to Mariners.

The size of this safety zone was determined using National Fire Protection Association and New York City Fire Department standards for ten inch mortars fired from a barge, combined with the Coast Guard's knowledge of tide and current conditions in the area.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979).

We expect the economic impact of this rule to be so minimal that a full Regulatory Evaluation under paragraph 10e of the regulatory policies and procedures of DOT is unnecessary.

This finding is based on: the minimal time that vessels would be restricted from the zones; the Hudson Riverway water ski show is an annual, local event; the zone is only in effect for one hour and 45 minutes, which is less than half the enforcement period in previous years; there are no commercial or recreational piers within the zone; and the City of Albany is closing the public boat launch located within the safety zone during this event. The Midland Beach Fireworks zone is only in effect for one and one half hours; and vessels can be given permission to transit the zone for all but about 20 minutes during this time. Advance notifications will be made to the local maritime community by Local Notice to Mariners and marine information broadcasts.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which might be small entities: the owners or operators of vessels intending to transit or anchor in a portion of the Hudson River and Lower New York Bay during the time these zones are activated.

These safety zones will not have a significant economic impact on a substantial number of small entities for the following reasons: the Hudson Riverway water ski show is an annual, local event of relatively short duration; there are no commercial or recreational piers within the zone; the minimal time that vessels will be restricted from the zones; and the City of Albany is closing the public boat launch located within the safety zone during this event. Recreational vessels may still transit around the Midland Beach zone during the event and will not be precluded from mooring at or getting underway from piers in the vicinity of the zone; the zone is only in effect for one and one half hours; and vessels can be given permission to transit the zone for all but about 20 minutes during this time. We will ensure wide dissemination of maritime advisories to users of the Hudson River and Lower New York Bay via the Local Notice to mariners and marine information broadcasts.

Assistance for Small Entities

Under section 213(a) of the Small Business Regulatory Enforcement Fairness Act of 1996 (Public Law 104-121), we offered to assist small entities in understanding the rule so that they could better evaluate its effects on them and participate in the rulemaking process.

Collection of Information

This rule would call for no new collection of information under the Paperwork Reduction Act of 1995 (44 U.S.C. 3501-3520).

Federalism

A rule has implications for federalism under Executive Order 13132, Federalism, if it has a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not affect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that might disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that Order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We have considered the environmental impact of this rule and concluded that, under figure 2-1, paragraph 34(g), of Commandant Instruction M16475.1D, this rule is categorically excluded from further environmental documentation. This rule fits paragraph 34(g) as it establishes two safety zones. A “Categorical Exclusion Determination” is available in the docket for inspection or copying where indicated under ADDRESSES.

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION AREAS AND LIMITED ACCESS AREAS

1. The authority citation for part 165 continues to read as follows:

Authority: 33 U.S.C. 1231; 50 U.S.C. 191; 33 CFR 1.05-1(g), 6.04-1, 6.04-6, and 160.5; 49 CFR 1.46.

2. From 4 p.m. August 10, 2002, to 10 p.m. August 18, 2002, add temporary § 165.T01-093 to read as follows:

§ 165.T01-093 Safety Zones; Coast Guard Activities New York.

(a) The following areas are established as safety zones:

(1) Hudson Riverway Water Ski Show. (i) Location. All waters of the Hudson River from the Dunn Memorial Bridge (river mile 145.4) to the Albany Rensselaer Swing Bridge (river mile 146.2).

(ii) Enforcement period. Paragraph (a)(1)(i) of this section will be enforced from 4 p.m. to 5:45 p.m. on Saturday, August 10, 2002.

(2) Lower New York Bay Safety Zone. (i) Location. All waters of Lower New York Bay within a 300-yard radius of the fireworks barge in approximate position 40°34′12.0″ N 074°04′29.6″ W, (NAD 1983) about 800 yards southeast of Midland Beach.

(ii) Enforcement period. Paragraph (a)(2)(i) of this section will be enforced from 8:30 p.m. to 10 p.m. on Saturday, August 17, 2002. In the event of inclement weather on that date, this section will be enforced from 8:30 p.m. to 10 p.m. on Sunday, August 18, 2002.

(b) Regulations. (1) The general regulations contained in 33 CFR 165.23 apply.

(2) All persons and vessels shall comply with the instructions of the Coast Guard Captain of the Port or the designated on-scene-patrol personnel. These personnel comprise commissioned, warrant, and petty officers of the Coast Guard.

Upon being hailed by a U. S. Coast Guard vessel by siren, radio, flashing light, or other means, the operator of a vessel shall proceed as directed.

Dated: July 25, 2002.
C.E. Bone,
Captain, U.S. Coast Guard, Captain of the Port, New York.

[FR Doc. 02-20624 Filed 8-9-02; 4:02 pm]

BILLING CODE 4910-15-P